DEPARTMENT OF COMMERCE

International Trade Administration

Application for Duty-Free Entry of Scientific Instrument

Pursuant to section 6(c) of the Educational, Scientific and Cultural Materials Importation Act of 1966 (Pub. L. 89-651; 80 Stat. 897; 15 CFR part 301), we invite comments on the question of whether an instrument of equivalent scientific value, for the purposes for which the instrument shown below is intended to be used, is being manufactured in the United States.

Comments must comply with 15 CFR 301.5(a)(3) and (4) of the regulations and be filed within 20 days with the Statutory Import Programs Staff, U.S. Department of Commerce, Washington, DC 20230. Applications may be examined between 8:30 A.M. and 5:00 P.M. in Suite 4100W, U.S. Department of Commerce, Franklin Court Building, 1099 14th Street, NW, Washington, DC.

Docket Number: 02-010.

Applicant: University of New Mexico, Department of Pathology, 915 Camino de Salud NE, Albuquerque, NM 87131-5226.

Instrument: Electron Microscope, Model H-7500-1.

Manufacturer: Hitachi Ltd., Japan.

Intended Use: The instrument is intended to be used for research in the following categories and projects:

1. Signal tranduction, adhesion and trafficking

(a) Signaling through the high affinity IgE receptor of basophils and mast cells.

(b) Functional analysis of Rabs in Polycystic Kidney Disease.

(c) Membrane lipid topography and signal transduction/intracellular trafficking of cytokines.

(d) Localizing the formylpeptide receptor by gold labeling and electron microscopy.

(e) Relationship of the membrane topography of adhesion molecules to leukocyte adhesive activity.

2. Neuroscience

(a) Effect of peroxynitrite on myelin compaction.

(b) Role of RNA-protein interactions in the control of GAP-43 mRNA stability.

(c) SNAP-25 expression of hyperactivity in Coloboma mice.

3. Molecular genetics and molecular virology

(a) Function of mRNA binding proteins in mRNA 3” end formation and intranuclear trafficking.

(b) Human papillomavirus synthesis and early infection events.

(c) Structure of mammalian DNA replication complexes. Application accepted by Commissioner of Customs: March 18, 2002.

Gerald A. Zerdy,
Program Manager, Statutory Import Programs Staff.

[FR Doc. 02-9336 Filed 4-16-02; 8:45 am]

BILLING CODE 3510-DS-P